DEPARTMENT OF VETERANS AFFAIRS

Veterans' Family, Caregiver and Survivor Advisory Committee, Notice of Meeting

The Department of Veterans Affairs (VA) gives notice under the Federal Advisory Committee Act, 5 U.S.C. ch. 10, that the Veterans' Family, Caregiver and Survivor Advisory Committee will meet virtually on June 3, 2024. The meeting session will begin and end as follows:

Date | Time
June 3, 2024 | 10:00 a.m. to 1:00 p.m. EST.

The meeting is open to the public and will be conducted via WebEx.

The purpose of the Committee is to provide advice to the Secretary of VA with respect to the administration of benefits by VA for services to Veterans' families, caregivers and survivors.

On June 3, 2024, the agenda will include opening remarks from the Executive Sponsor, Veterans Health Administration (VHA) and the Committee Chair. The primary purpose of this meeting is to finalize the Committee's report and/or recommendations to the Secretary of VA.

The public are invited to attend in listening-mode. The chat function will be disabled. Due to the limited time for this meeting, there will be no public comments. However, individuals wishing to submit written comments may send them to VHA12CSPFAC@va.gov before Wednesday, May 29, 2024.

All attending should register at the following link: https://veteransaffairs.webex.com/weblink/register/r0bd23443e38ea0cd101657e56e5c5fff. Once registered, an email with the link for the June 3rd Webinar will be sent to your inbox (Note: also check Junk Mail Folder for an email from messenger@webex.com). Anyone seeking additional information should contact Dr. Betty Moseley Brown, at Betty.MoseleyBrown@va.gov.

Dated: May 9, 2024.
Jelessa M. Burney,
Federal Advisory Committee Management Officer.

[FR Doc. 2024-10514 Filed 5-13-24; 8:45 am]

BILLING CODE P